DEPARTMENT OF TRANSPORTATION

Office of the Secretary

Aviation Proceedings, Agreements Filed the Week Ending June 20, 2008

The following Agreements were filed with the Department of Transportation under the Sections 412 and 414 of the Federal Aviation Act, as amended (49 U.S.C. 1382 and 1384) and procedures governing proceedings to enforce these provisions. Answers may be filed within 21 days after the filing of the application.

Docket Number: DOT-OST-2008-0189.

Date Filed: June 17, 2008.

Parties: Members of the International Air Transport Association.

Subject: CSC/30/Meet/012/08 dated June 16, 2008; Finally Adopted Resolutions: 003, 608, and 657. Intended effective date: 01 October 2008.

Renee V. Wright,
Program Manager, Docket Operations, Federal Register Liaison.

[FR Doc. E8-14992 Filed 7-1-08; 8:45 am]

BILLING CODE 4910-9X-P